DEPARTMENT OF HEALTH AND HUMAN SERVICES

Administration for Children and Families

Proposed Information Collection Activity; Comment Request

Proposed Projects:

Title: Revised ORR-5.

OMB No.: 0970-0043.

Description: The Refugee Data submission of Formula Funds Allocations (ORR-5); (0970-0043) is required by Immigration and Nationality Act as stated at Chapter 2 Refugee Assistance, (C)—submit to the Director, within a reasonable period of time after the end of each fiscal year, a report on the uses of funds provided under this chapter which the State is responsible for administering. ORR has added additional data fields to the existing tool/vehicle which is submitted by states and state replacement designees on an annual basis and elected to use 10/1 as the submission date that provides a reasonable period of time.

Respondents: States, state replacement designees, District of Columbia.

Instrument | Number of respondents | Number of responses per respondent | Average burden hours per response | Total burden hours
Refugee Data Submission for Formula Funds Allocations | 50 | 1 | 22 | 1,100

Annual Burden Estimates

Estimated Total Annual Burden Hours:

In compliance with the requirements of the Paperwork Reduction Act of 1995 (Pub. L. 104-13, 44 U.S.C. Chapter 35), the Administration for Children and Families is soliciting public comment on the specific aspects of the information collection described above. Copies of the proposed collection of information can be obtained and comments may be forwarded by writing to the Administration for Children and Families, Office of Planning, Research and Evaluation, 330 C Street SW., Washington DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2017-14032 Filed 7-3-17; 8:45 am]

BILLING CODE 4184-01-P